DEPARTMENT OF DEFENSE

Department of the Navy

[Docket ID USN-2011-0004]

Privacy Act of 1974; System of Records

AGENCY: Department of the Navy, DoD.

ACTION: Notice to Amend a System of Records.

SUMMARY: The Department of the Navy proposes to amend a system of records in its inventory of record systems subject to the Privacy Act of 1974 (5 U.S.C. 552a), as amended.

DATES: The changes will be effective on April 25, 2011 unless comments are received that would result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Robin Patterson (202) 685-6546, or by mail at HEAD, FOIA/Privacy Act Policy Branch, the Department of the Navy, 2000 Navy Pentagon, Washington, DC 20350-2000.

SUPPLEMENTARY INFORMATION: The Department of the Navy systems of records notice subject to the Privacy Act of 1974, (5 U.S.C. 552a), as amended, has been published in the Federal Register and is available from the FOR FURTHER INFORMATION CONTACT address above.

The specific changes to the record system being amended are set forth below followed by the notice, as amended, published in its entirety. The proposed amendment is not within the purview of subsection (r) of the Privacy Act of 1974 (5 U.S.C. 552a), as amended, which requires the submission of new or altered systems reports.

Dated: March 22, 2011.
Morgan F. Park,
Alternate OSD Federal Register Liaison Officer, Department of Defense.

NM05100-5

System Name:

Enterprise Safety Applications Management System (ESAMS) (May 31, 2006, 71 FR 30888).

Changes:

* * * * *

System location:

Delete entry and replace with “CNIC Transitional Hosting Center, 1968 Gilbert St., Norfolk, VA 23511-3318 and organizational elements of the Department of the Navy; official mailing addresses are published in the Standard Navy Distribution List.”

* * * * *

System manager(s) and address:

Delete entry and replace with “Policy Official: Commander, Navy Installations Command, 2713 Mitscher Road, SW., Ste 300, Anacostia Annex, DC 20373-5802.

Record Holder: Organizational elements of the Department of the Navy. Official mailing addresses are published in the Standard Navy Distribution List.”

Notification procedure:

Delete entry and replace with “Individuals seeking to determine whether information about themselves is contained in this system of records should address written inquiries to the Commanding Officer of the local activity. Official mailing addresses are published in the Standard Navy Distribution List.

The request should contain individual's full name, Social Security Number (SSN), address and be signed.

The system manager may require an original signature or a notarized signature as a means of proving the identity of the individual requesting access to the records.”

Record access procedures:

Delete entry and replace with “Individuals seeking to access the information about themselves contained in this system of records should address written inquiries to the Commanding Officer of the local activity. Official mailing addresses are published in the Standard Navy Distribution List.

The request should contain the individual's full name, Social Security Number (SSN), address and be signed.

The system manager may require an original signature or a notarized signature as a means of proving the identity of the individual requesting access to the records.”

* * * * *

NM05100-5

System Name:

Enterprise Safety Applications Management System (ESAMS)

System location:

CNIC Transitional Hosting Center, 1968 Gilbert St., Norfolk, VA 23511-3318 and organizational elements of the Department of the Navy; official mailing addresses are published in the Standard Navy Distribution List.

Categories of individuals covered by the system:

Department of Navy (DON) military and civilian personnel, non-appropriated personnel, foreign national military and civilian personnel, other U.S. Government personnel, or contractors, who work or receive support from the U.S. Navy, ashore and/or afloat.

Categories of records in the system:

Name, Social Security Number (SSN), date of birth, job title, rank/rate/grade, civilian/military/foreign nationals/contactors indicator, unit identification code (UIC), activity name, major command code, department, gender, training/certifications received, test scores, occupational medical stressors, date of last physical and non-diagnostic information concerning health readiness/restrictive duty, respirator usage and fit test results, chemical and/or environmental exposures, and occupational injuries/illnesses.

Authority for maintenance of the system:

5 U.S.C. 41 4101-4118, the Government Employees Training Act of 1958; 10 U.S.C. 5013, Secretary of the Navy; 10 U.S.C. 5042, Commandant of the Marine Corps; E.O. 12196, Occupational Safety and Health Programs for Federal Employees; DoD Instruction 6055.7, Accident Investigation, Reporting, and Record Keeping; and E.O. 9397 (SSN), as amended.

Purpose(s):

To ensure all individuals receive required safety, fire, security, force protection, and emergency management training courses necessary to perform assigned duties and comply with Federal, DoD, and Navy related regulations.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b) (3) as follows:

To the Occupational Safety and Health Administration (OSHA) during the course of an on-site inspection.

The DoD `Blanket Routine Uses' that appear at the beginning of the Navy's compilation of systems of records notices apply to this system.

Policies and practices for storing, retrieving, accessing, retaining, and disposing of records in the system:

Storage:

Electronic storage media and paper records.

Retrievability:

Retrieved by individual's name and Social Security Number (SSN).

Safeguards:

Computer facilities and terminals are located in restricted areas accessible only to authorize persons that are properly screened, cleared and trained. Information is password protected. Manual records and computer printouts are available only to authorized personnel having a need-to-know.

Retention and disposal:

Paper records are retained at the local command for a minimum of five years. Computerized database is retained for the duration of employment plus 30 years and then destroyed.

System manager(s) and address:

Policy Official: Commander, Navy Installations Command, 2713 Mitscher Road, SW., Ste 300, Anacostia Annex, DC 20373-5802.

Record Holder: Organizational elements of the Department of the Navy. Official mailing addresses are published in the Standard Navy Distribution List.

Notification procedure:

Individuals seeking to determine whether information about themselves is contained in this system of records should address written inquiries to the Commanding Officer of the local activity. Official mailing addresses are published in the Standard Navy Distribution List.

The request should contain individual's full name, Social Security Number (SSN), address and be signed.

The system manager may require an original signature or a notarized signature as a means of proving the identity of the individual requesting access to the records.

Record access procedures:

Individuals seeking to access the information about themselves contained in this system of records should address written inquiries to the Commanding Officer of the local activity. Official mailing addresses are published in the Standard Navy Distribution List.

The request should contain the individual's full name, Social Security Number (SSN), address and be signed.

The system manager may require an original signature or a notarized signature as a means of proving the identity of the individual requesting access to the records.

Contesting record procedures:

The Navy's rules for accessing records, and for contesting contents and appealing initial agency determinations are published in Secretary of the Navy Instruction 5211.5; 32 CFR part 701; or may be obtained from the system manager.

Record source categories:

Individual; personnel files; non-diagnostic extracts from medical records that address medical readiness/restrictions; and office files.

Exemptions claimed for the system:

None.

[FR Doc. 2011-7053 Filed 3-24-11; 8:45 am]

BILLING CODE 5001-06-P